DEPARTMENT OF AGRICULTURE

Agricultural Marketing Service

7 CFR Part 956

[Docket No. FV02-956-1 PR]

Sweet Onions Grown in the Walla Walla Valley of Southeast Washington and Northeast Oregon; Reopening of Comment Period on Establishment of Grade and Inspection Requirements

AGENCY: Agricultural Marketing Service, USDA.

ACTION: Reopening of the comment period.

SUMMARY: Notice is hereby given that the comment period on the establishment of grade and inspection requirements for Walla Walla sweet onions is reopened.

DATES: Comments must be received by November 22, 2002.

ADDRESSES: Interested persons are invited to submit written comments concerning this proposal. Comments must be sent to the Docket Clerk, Marketing Order Administration Branch, Fruit and Vegetable Programs, AMS, USDA, 1400 Independence Avenue SW., STOP 0237, Washington, DC 20090-0237, Fax: (202) 720-8938, or e-mail: moab.docketclerk@usda.gov. Comments should reference the docket number and the date and page number of this issue of the Federal Register and will be available for public inspection in the Office of the Docket Clerk during regular business hours, or can be viewed at: http://www.ams.usda.gov/fv/moab.html.

FOR FURTHER INFORMATION CONTACT: George Kelhart, Marketing Order Administration Branch, Fruit and Vegetable Programs, AMS, USDA, 1400 Independence Avenue SW., STOP 0237, Washington, DC 20090-0237; Telephone: (202) 720-2491, Fax: (202) 720-8938.

Small businesses may request information on compliance with this proposed regulation by contacting: Jay Guerber, Marketing Order Information Branch, Fruit and Vegetable Programs, AMS, USDA, 1400 Independence Avenue SW., STOP 0237, Washington, DC 20090-0237; Telephone: (202) 720-2491, Fax: (202) 720-5698, or e-mail: Jay.Guerber@usda.gov.

SUPPLEMENTARY INFORMATION: A proposed rule was published in the Federal Register on July 22, 2002 (67 FR 47741). The proposed rule invited comments on the establishment of grade and inspection requirements for Walla Walla sweet onions. The rule would require that all Walla Walla sweet onions handled prior to June 10 of each marketing season be inspected and be at least U.S. Commercial grade. By establishing minimum standards early in the season, the rule is expected to improve producer returns by ensuring that early-season sweet onions are mature and marketable. The cost of the required inspection would be fully funded by the Walla Walla Sweet Onion Marketing Committee (Committee), the agency responsible for local administration of the marketing order regulating sweet onions grown in the Walla Walla Valley of Southeast Washington and Northeast Oregon. The rule also proposed that there would be no minimum quantity exemption from inspection requirements prior to June 10. The comment period ended September 20, 2002.

One comment was received. After evaluating that comment, USDA determined that additional information could clarify certain aspects of the proposal and provide further guidance to USDA in making a final decision on the proposal. The commenter's primary objection with the proposal is that the June 10 date is too early. The commenter stated that inspections should be required on all sweet onions shipped prior to June 15, at the earliest, because, contrary to the proposal's premise, any earlier date would not prevent immature onions from being marketed.

The commenter noted that there were no shipments of Walla Walla sweet onions during the 2002 season prior to June 10, and that this indicates the proposal could be ineffective. Further analysis of the impact the proposed June 10 date would have on early-season immature onion shipments would be useful to the USDA in making a final determination on this matter.

Further, regarding the higher potential cost of inspections to the Committee if a later date were to be used rather than June 10, the commenter suggested some alternatives, including not requiring all sweet onions shipped prior to an established date to be inspected. These alternatives were not discussed by the Committee prior to its submission of the proposed rule and further information regarding such alternatives also would be useful to USDA in making a final determination on this matter.

Although providing an additional period of time for comments would delay the final decision on this proposal, it would not delay the decision so as to negatively affect its effectiveness for the 2003 marketing season. Therefore, before proceeding further on the recommendation to establish grade and inspection requirements, USDA is reopening the comment period to allow the Committee, as well as other interested persons, more time to review the proposed rule and to submit additional information. Accordingly, the period in which to file written comments is reopened until November 22, 2002. This notice is issued pursuant to the Agricultural Marketing Agreement Act of 1937.

Authority: 7 U.S.C. 601-674.

Dated: October 28, 2002.
A.J. Yates,
Administrator, Agricultural Marketing Service.

[FR Doc. 02-27765 Filed 10-31-02; 8:45 am]

BILLING CODE 3410-02-P